DEPARTMENT OF LABOR

Occupational Safety and Health Administration

Susan Harwood Training Grant Program, FY 2010

AGENCY: Occupational Safety and Health Administration, Labor.

ACTION: Notification of Funding Opportunity for Susan Harwood Training Grant Program, FY 2010.

Funding Opportunity No.: SHTG-FY-10-02

Catalog of Federal Domestic Assistance No.: 17.502

SUMMARY: This notice announces grant availability of approximately $2.75 million for the Susan Harwood Training Grant Program for Targeted Topic training grants. The complete Harwood solicitation for grant applications (SGA) for Targeted Topic training grants is available at: http://www.grants.gov.

Targeted Topic training grants will support the development of quality safety and health training materials and/or the conduct of training for workers and/or employers at multiple worksites addressing one or more of the 30 occupational safety and health hazards OSHA has selected for this grant solicitation. The full list of selected training topics is listed in the solicitation for grant applications that is available on grants.gov. The Agency may award grants for some or all of the listed Targeted Topic training topics. Targeted Topic training grants will be awarded for a 12-month project performance period. The maximum funding that can be requested for the 12-month project performance period is $250,000.

DATES: Targeted Topic training grant applications must be received electronically by the Grants.gov system no later than 4:30 p.m., E.T. on Friday August 6, 2010, the application deadline date.

ADDRESSES: The complete Susan Harwood Training Grant Program solicitation for grant applications for Targeted Topic training grants and all information needed to apply for this funding opportunity are available at: http://www.grants.gov.

FOR FURTHER INFORMATION CONTACT: Any questions regarding this solicitation for grant applications should be emailed to HarwoodGrants@dol.gov or directed to Kimberly Newell, Program Analyst, or Jim Barnes, Director, Office of Training and Educational Programs, at (847) 759-7700. To obtain further information on the Susan Harwood Training Grant Program of the U.S. Department of Labor, visit the OSHA Web site at: https://www.osha.gov, select “Training” under the Top Links section, and then select “Susan Harwood Training Grant Program”. Please note that on the Harwood Web page, the “Applying for a Grant” section contains a PowerPoint program entitled “Helpful Tips for Improving Your Susan Harwood Grant Application.”

Authority: The Occupational Safety and Health Act of 1970, (29 U.S.C. 670), Pub. L. 111-117, and the 2010 Consolidated Appropriations Act.

Signed at Washington, DC, this 28 day of June 2010.
David Michaels,
Assistant Secretary of Labor for Occupational Safety and Health.

[FR Doc. 2010-16398 Filed 7-2-10; 8:45 am]

BILLING CODE 4510-26-P